DEPARTMENT OF EDUCATION

Centers for Independent Living Program—Training and Technical Assistance

Catalog of Federal Domestic Assistance (CFDA) Number: 84.400B.

AGENCY: Office of Special Education and Rehabilitative Services, Department of Education.

ACTION: Notice of final priority.

SUMMARY: The Assistant Secretary for Special Education and Rehabilitative Services announces a priority under the Centers for Independent Living Program—Training and Technical Assistance. The Assistant Secretary may use this priority for competitions in fiscal year (FY) 2010, using American Recovery and Reinvestment Act of 2009 (ARRA) funds appropriated for the Centers for Independent Living (CIL) program authorized under title VII, chapter 1, part C of the Rehabilitation Act of 1973, as amended (the Act), and competitions in later years. We take this action to improve outcomes for individuals with significant disabilities by enhancing the quality of independent living (IL) services provided to those individuals and the efficiency of the delivery of those services by CILs funded through the CIL program.

DATES: Effective Date: This priority is effective July 16, 2010.

FOR FURTHER INFORMATION CONTACT: Sean Barrett, U.S. Department of Education, 400 Maryland Avenue, SW., room 5016, Potomac Center Plaza (PCP), Washington, DC 20202-2800. Telephone: (202) 245-7604 or by e-mail: sean.barrett@ed.gov.

If you use a telecommunications device for the deaf (TDD), call the Federal Relay Service (FRS), toll free, at 1-800-877-8339.

SUPPLEMENTARY INFORMATION:

Purpose of Program: The purpose of the CIL program is to maximize independence, productivity, empowerment, and leadership of individuals with disabilities and integrate these individuals into the mainstream of society.

CILs are consumer-controlled, community-based, cross-disability, nonresidential, private nonprofit agencies that are designed and operated within a local community by individuals with disabilities and provide an array of IL services to individuals with significant disabilities, including the core services of information and referral, IL skills training, peer counseling, and individual and systems advocacy.

Each State has established a Statewide Independent Living Council (SILC) that jointly develops and signs the State Plan for Independent Living with the designated State unit; monitors, reviews, and evaluates the implementation of the State plan; and coordinates activities with the State Rehabilitation Council and other organizations related to issues that affect individuals with disabilities. A majority of a SILC's members are individuals with disabilities. Other members include CIL representatives and State agency representatives, as well as other appropriate individuals.

Through the ARRA, Congress has appropriated $87,500,000 for the CIL program to be obligated by FY 2010. Under section 721(b)(1) of the Act, the Department is required to reserve between 1.8 and 2 percent of the funds appropriated for the CIL program to provide training and technical assistance to CILs, agencies eligible to become CILs, and SILCs with respect to planning, developing, conducting, administering, and evaluating CILs.

Program Authority: 29 U.S.C. 796f(b).

Applicable Program Regulations: 34 CFR part 366.

We published a notice of proposed priority for this program in the Federal Register on March 22, 2010 (75 FR 13521). That notice contained background information and our reasons for proposing the particular priority.

There are no differences between the proposed priority and this final priority.

Public Comment: In response to our invitation in the notice of proposed priority, we did not receive any comments on the proposed priority.

Final Priority

Centers for Independent Living (CILs) Community-Based Training and Technical Assistance Project

The Assistant Secretary for Special Education and Rehabilitative Services establishes a priority to support a Training and Technical Assistance Project to assist CILs in one or more of the following important and challenging areas: Developing strategies to address the needs of underserved populations and underserved geographic areas; promoting community-based alternatives to institutionalization; assisting transition-age youths to succeed after secondary school; and providing IL services in rural settings.

To meet this priority, applicants must demonstrate all of the following in their applications:

(a) Evidence that the project team includes staff members with expertise in each of the priority topic areas on which the applicant is proposing to provide training and technical assistance;

(b) A sound plan for providing training and technical assistance and materials that (1) Is based on rigorous research, where available; (2) utilizes a broad range of available, accessible technologies and methodologies; and (3) is sufficient to provide training and technical assistance to as many CILs as possible.

(c) An assurance that the applicant will coordinate and collaborate with other training projects funded by the Department to ensure that its training activities are complementary and non-duplicative and that its dissemination activities are effective and efficient. At a minimum, the Training and Technical Assistance Project must coordinate with RSA's CILs Training and Technical Assistance Center.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

This notice does not preclude us from proposing additional priorities, requirements, definitions, or selection criteria, subject to meeting applicable rulemaking requirements.

Note: This notice does not solicit applications. In any year in which we choose to use this priority, we invite applications through a notice in the Federal Register.

Executive Order 12866: This notice has been reviewed in accordance with Executive Order 12866. Under the terms of the order, we have assessed the potential costs and benefits of this proposed regulatory action and have determined that it is not “significant” under the terms of that Executive order.

We have determined, also, that this final regulatory action does not unduly interfere with State, local, and Tribal governments in the exercise of their governmental functions.

We summarized the costs and benefits of this regulatory action in the notice of proposed priority.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Accessible Format: Individuals with disabilities can obtain this document in an accessible format (e.g., braille, large print, audiotape, or computer diskette) on request to the program contact person listed under FOR FURTHER INFORMATION CONTACT.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Dated: June 9, 2010.
Alexa Posny,
Assistant Secretary for Special Education and Rehabilitative Services.

[FR Doc. 2010-14404 Filed 6-15-10; 8:45 am]

BILLING CODE 4000-01-P